DEPARTMENT OF ENERGY

Federal Energy Regulatory Commission

[Docket No. CP15-518-000]

Freeport LNG Development, L.P., FLNG Liquefaction, LLC, FLNG Liquefaction 2, LLC, FLNG Liquefaction 3, LLC; Notice of Schedule for Environmental Review of the Freeport LNG Capacity Uprate Project

On June 15, 2015, Freeport LNG Development, L.P., FLNG Liquefaction, LLC, FLNG Liquefaction 2, LLC, and FLNG Liquefaction 3, LLC (collectively referred to as Freeport LNG) filed an application pursuant to Section 3(a) of the Natural Gas Act to amend the existing authorization for the Liquefaction Project, located in Brazoria County near Freeport, Texas. The proposed project is known as the Capacity Uprate Project (Project), and would allow for the liquefaction and export of an additional 0.34 billion cubic feet per day (bcf/d) equivalent of liquefied natural gas.

On June 24, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA March 31, 2016

90-day Federal Authorization Decision Deadline June 29, 2016

If a schedule change becomes necessary, additional notice will be provided so that the relevant agencies are kept informed of the Project's progress.

Project Description

Freeport LNG is seeking approval of an increase in the LNG production capacity of the previously approved Liquefaction Project from 1.8 bcf/d to about 2.14 Bcf/d. This is the estimated maximum LNG production capacity of the Liquefaction Project available for export under optimal operating conditions. The currently authorized liquefaction capacity for the Liquefaction Project was determined by Freeport LNG during the early stages engineering design. This amendment identifies and requests that the maximum quantity of LNG that could be produced in a particular year under well-developed engineering design parameters and specific operating conditions be used as the approved volumes.

Background

Freeport LNG identified no additional facilities or modification that would be necessary to enable the uprate. We received a request to intervene from the Sierra Club that included some environmental comments.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-518), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: March 2, 2016.
Nathaniel J. Davis, Sr.,
Deputy Secretary.

[FR Doc. 2016-05098 Filed 3-7-16; 8:45 am]

BILLING CODE 6717-01-P